NUCLEAR REGULATORY COMMISSION

10 CFR Chapter I

[NRC-2020-0073]

Clarification of Personal Access Authorization Requirements for Non-Immigrant Foreign Nationals Working at Nuclear Power Plants

AGENCY: Nuclear Regulatory Commission.

ACTION: Draft regulatory issue summary; extension of comment period.

SUMMARY: On March 31, 2020, the U.S. Nuclear Regulatory Commission (NRC) solicited comments on a draft regulatory issue summary (RIS) to reinforce the existing requirement that prior to granting or reinstating unescorted access (UA), or certifying unescorted access authorization (UAA) to non-immigrant foreign nationals for the purpose of performing work, licensees shall take reasonable steps to access reliable, independent sources of information, in addition to the information provided by the applicant, to verify the applicant's claimed non-immigration status. The public comment period was originally scheduled to close on April 30, 2020. The NRC has decided to extend the public comment period to allow more time for members of the public to develop and submit their comments.

DATES: The due date of comments requested in the document published on March 31, 2020 (85 FR 17770) is extended. Comments should be filed no later than June 15, 2020. Comments received after this date will be considered, if it is practical to do so, but the Commission is able to ensure consideration only for comments received on or before this date.

ADDRESSES: You may submit comments by any of the following methods:

• Federal Rulemaking website: Go to https://www.regulations.gov and search for Docket ID NRC-2020-0073. Address questions about NRC dockets IDs in Regulations.gov to Jennifer Borges; telephone: 301-287-9127; email: Jennifer.Borges@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Mark Resner, Office of Nuclear Security and Incident Response, U.S. Nuclear Regulatory Commission, Washington, DC 20555-0001; telephone: 301-287-3680, email: Mark.Resner@nrc.gov.

SUPPLEMENTARY INFORMATION:

I. Obtaining Information and Submitting Comments

A. Obtaining Information

Please refer to Docket ID NRC-2020-0073 when contacting the NRC about the availability of information for this action. You may obtain publicly-available information related to this action by any of the following methods:

• Federal Rulemaking website: Go to https://www.regulations.gov and search for Docket ID NRC-2020-0073.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The Regulatory Issue Summary 2020-XX, “Clarification of Personnel Access Authorization Requirements for Non-Immigrant Foreign Nationals Working at Nuclear Power Plants,” is available in ADAMS under Accession No. ML20008D562.

B. Submitting Comments

Please include Docket ID NRC-2020-0073 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On March 31, 2020 (85 FR 17770), the NRC solicited comments on a draft RIS entitled, “Clarification of Personal Access Authorization Requirements for Non-Immigrant Foreign Nationals Working at Nuclear Power Plants.” The purpose of that document was to solicit public comments on the NRC requirement for licensees to ensure that non-immigrant foreign nationals being granted access to work at U.S. nuclear plants have the correct non-immigrant status to do so. The public comment period was originally scheduled to close on April 30, 2020. The NRC has decided to extend the public comment period on the draft RIS until June 15, 2020, to allow more time for members of the public to submit their comments.

Dated: April 23, 2020.
For the Nuclear Regulatory Commission.
Lisa M. Regner,
Chief, Operating Experience Branch, Division of Reactor Oversight, Office of Nuclear Reactor Regulation.

[FR Doc. 2020-08974 Filed 4-29-20; 8:45 am]

BILLING CODE 7590-01-P